DEPARTMENT OF COMMERCE

Foreign-Trade Zones Board

[Docket 39-2007]

Foreign-Trade Zone 201 Holyoke, Massachusetts, Application for Subzone, Mastex Industries, Inc. (Airbag Fabric for Export), Holyoke, Massachusetts

An application has been submitted to the Foreign-Trade Zones Board (the Board) by the Holyoke Economic Development and Industrial Corporation, grantee of FTZ 201, requesting special-purpose subzone status for the manufacture of airbag fabric for export only at the facility of Mastex Industries, Inc. (Mastex), located in Holyoke, Massachusetts. The application was submitted pursuant to the provisions of the Foreign-Trade Zones Act, as amended (19 U.S.C. 81a-81u), and the regulations of the Board (15 CFR part 400). It was formally filed on August 16, 2007.

The Mastex facility (60 employees, 6 acres, 30 million yard capacity) is located on Cabot and Bigelow Streets, in Holyoke, Massachusetts. The facility will be used for the water jet weaving of fabric for automotive airbags (HTS duty rate 13.6%%) using imported high-tenacity nylon yarn (duty rate 8.8%%). The yarn would be admitted to the subzone in privileged foreign status (i.e., duty rate could not change under FTZ procedures).

FTZ procedures would exempt Mastex from customs duty payments on the foreign components used in export production to non-NAFTA countries, approximately 50 percent of the plant's shipments. On sales to NAFTA markets, Mastex would be able to defer the duty on the imported yarn. The request indicates that the savings from FTZ procedures would help improve the plant's international competitiveness.

In accordance with the Board's regulations, a member of the FTZ staff has been designated examiner to investigate the application and report to the Board.

Public comment is invited from interested parties. Submissions (original and 3 copies) shall be addressed to the Board's Executive Secretary at the address below. The closing period for their receipt is October 23, 2007. Rebuttal comments in response to material submitted during the foregoing period may be submitted during the subsequent 15-day period to November 7, 2007.

A copy of the application and accompanying exhibits will be available for public inspection at each of the following locations:

U.S. Department of Commerce Export Assistance Center, JFK Federal Building, 55 New Sudbury Street Suite 1826A, Boston, MA 02203.

Office of the Executive Secretary, Foreign-Trade Zones Board, U.S. Department of Commerce, Room 2111, 1401 Constitution Ave. NW., Washington, DC 20230.

For further information, contact Elizabeth Whiteman at Elizabeth_Whiteman@ita.doc.gov or (202) 482-0473.

Dated: August 16, 2007.
Andrew McGilvray,
Executive Secretary.

[FR Doc. E7-16826 Filed 8-23-07; 8:45 am]

BILLING CODE 3510-DS-S